DEPARTMENT OF STATE

[Public Notice 4275]

Bureau of Educational and Cultural Affairs Program Title: Central Asia School Connectivity Program: Uzbekistan and Tajikistan

ACTION: Request for proposals.

SUMMARY: The Youth Programs Division, Office of Citizen Exchanges, of the Bureau of Educational and Cultural Affairs announces an open competition for the School Connectivity Program for Uzbekistan and Tajikistan. Public and private non-profit organizations meeting the provisions described in IRS regulation 26 CFR 1.501(c) may submit proposals to expand the educational opportunities available in Uzbekistan and Tajikistan by providing access to the Internet and related training to help promote civic education and education reform. Applicants may submit proposals to implement the program in both or one of the countries. The anticipated amount of funding available is as follows: Uzbekistan—$1,425,000; Tajikistan—$572,000.

Program Information

Overview

The Central Asia School Connectivity Program for Uzbekistan and Tajikistan is designed to introduce youth to a broad range of ideas about civil society while enhancing the use of Internet technology. Through this program, secondary schools in each country will be able to incorporate civics and related resource materials into their curricula and improve general education under the guidance of specially trained teachers. The goals of the program are:

1. To provide access to information via the Internet;

2. To provide youth in Uzbekistan and Tajikistan with the opportunity to learn democratic values through virtual and person-to-person exchanges with U.S. schools;

3. To provide training and resources to improve the teaching of civic education and related fields;

4. To generate personal and institutional ties across borders among students, educators and their schools.

5. To identify sustainability strategies that will allow for program continuation when funding is no longer available.

The main components of this program for which grant funding is provided are:

• Recruiting and selecting secondary schools in Uzbekistan and Tajikistan and in the U.S. in a competitive, transparent process;

• Establishing computer centers, including hardware, software, Internet access, and renovations;

• Providing training for teacher-trainers who will, in turn, train teachers and students in selected schools and, later, other community members;

• Facilitating joint civics-based telecurriculum projects with U.S. schools, and possibly schools from other countries;

• Developing civic-based educational resources that utilize the Internet and coordinate the use of curricula from other related programs;

• Providing regional seminars and cross-border exchanges for participating youth to advance computer usage and increase awareness of a civil society;

• Developing school-community partnerships and other locally based initiatives to help sustain computer centers and support curriculum innovation.

• Conducting a three-week program in the U.S. for teachers to enhance computer and training skills, develop mentoring techniques and gain exposure of school-community partnerships at a grassroots level.

Guidelines

The number of grants to be awarded under this competition will be based upon the quality and responsiveness of proposals to the review criteria presented later in this Request for Grant Proposals (RFGP). For purposes of simplicity, these Guidelines refer to “grant” and “grant recipient.” Sub-grant and consortium arrangements are possibilities. The grant(s) should begin on or about June 2003, subject to availability of funds. The grant period should be two years.

The grant recipient will be responsible for:

(1) Selecting schools for the installation of a computer center, the provision of training, and the implementation of a civic education program that emphasizes use of the Internet. Selected schools will be partnered, either one-to-one or in small groups, with U.S. schools so that students and faculty may work on joint projects with American peers over the Internet in order to practice their newly-developed knowledge of using this tool for educational purposes.

(2) Equipping each of the selected schools with 6-8 computers, printers, and other items necessary to afford them Internet connectivity. This will be accompanied by improvements to the classrooms to ensure that facilities are suitable and secure. Once established, centers will be staffed by site monitors who will oversee their use.

(3) Providing training to a core group of educators in Internet education, American studies, English, civic education, curriculum development, and teaching methodologies. These educators will be employed by the grant recipient to train others in their respective regions. They will also be responsible for ongoing support, project implementation and site supervision. The training of teachers and students will focus on basic computer skills, use of electronic mail and bulletin boards, and use of the World Wide Web for research and for supplementing lesson plans. These educators will also oversee school partnership programs.

(4) Facilitating joint telecurriculum projects among students to learn about civil society, including the basics of democracy, volunteerism, conflict resolution, good citizenship, and civic responsibility, such as voting. Project staff will help teachers and youth select topics, facilitate action planning and evaluation processes, provide guidance, and assist with the development of a final product for widespread dissemination.

(5) Collaborating with USG agencies, local NGOs and ECA-funded programs relevant to this project to enhance local capacity and build on current efforts. This includes the incorporation of education materials created by other USG-funded initiatives and the engagement of program beneficiaries in project activities.

(6) Facilitating a three-week exchange of teachers to the United States in which participants will receive specialized training and will reside with partner teachers with whom they have worked during the academic year. Participants will be exposed to U.S. educational practices, specifically the use of technology in U.S. classrooms, as well as school-community partnerships and grassroots volunteer organizations that use computer technology as a tool for income-generating activities. Activities will focus on the role that the individual can play in a democracy, including school-based programs that educate young people on their civil, moral, and legal obligations to society. Upon return to their home country, participants will share their experiences and serve as mentors to other schools in the network.

(7) Developing sustainability strategies in communities where schools have been selected. Community representatives may identify income-generating activities and will use technology to shape a sustainable development path for computer centers in their communities. Community members may receive training in issues such as developing a needs assessment, entrepreneurship, management, marketing, and fundraising. The creation of PTAs will be instrumental in generating community involvement and support.

(8) Developing an evaluation plan that will focus on: (a) Determining if objectives are being met or have been met; (b) measuring attitudinal and behavioral change; (c) identifying any unmet needs, and (d) assessing if the project has effectively discovered resources, advocates, and financial support for sustainability of current efforts. Informal evaluation through discussions, monthly updates and other sources of feedback will be carried out throughout the duration of the project.

Budget Guidelines

All organizations applying under this competition must demonstrate in their proposal narrative a minimum of four years experience managing and conducting international exchange programs. Bureau grant guidelines require that organizations with less than four years experience conducting and managing international exchanges be limited to $60,000 in Bureau funding. Since the grant or grants awarded under the competition will exceed the $60,000 ceiling, organizations with less than four years experience, per above, are not eligible to apply under this competition.

The Bureau reserves the right to accept proposals for both countries or for single countries and make an award or awards in accordance with what serves the best interest of the programs. Applicants must submit a summary budget that includes all program components as well as breakdowns reflecting both administrative and program budgets. Applicants should provide separate sub-budgets for each program component, phase, location, or activity to provide clarification. Administrative costs, including indirect rates, should be kept to a minimum and cost-shared as possible.

Please refer to the Solicitation Package for complete budget guidelines and formatting instructions.

Announcement Title and Number: All correspondence with the Bureau concerning this RFP should reference the above title and number ECA/PE/C/PY-03-28.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements.

ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. FAX: (202) 401-9809.

FOR FURTHER INFORMATION CONTACT: The Office of Youth Programs, ECA/PE/C/PY, Room 568, U.S. Department of State, 301 4th Street, SW., Washington, DC 20547, tel. (202) 619-5904, and fax (202) 619-5311, e-mail amussman@pd.state.gov to request a Solicitation Package. The Solicitation Package contains detailed award criteria, required application forms, specific budget instructions, and standard guidelines for proposal preparation. Please specify Bureau of Education and Cultural Affairs Program Officer Anna Mussman on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at: http://exchanges.state.gov/education/rfps. Please read all information before downloading.

Deadline for Proposals

All proposal copies must be received at the Bureau of Educational and Cultural Affairs by 5 p.m. Washington, DC time on Monday, April 7, 2003. Faxed documents will not be accepted at any time. Documents postmarked the due date but received on a later date will not be accepted. Each applicant must ensure that the proposals are received by the above deadline.

Applicants must follow all instructions in the Solicitation Package. The original and 8 copies of the application should be sent to: U.S. Department of State, SA-44, Bureau of Educational and Cultural Affairs, Ref.: ECA/PE/C/PY-03-28, Program Management, ECA/EX/PM, Room 336, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Pub. L. 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the State Department Geographic Area Office and Public Diplomacy section at the U.S. embassy overseas, where appropriate. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals should display an understanding of the goals of the program, as reflected in the priorities of this RFGP. Exchange activities should ensure sufficient use of program resources. Proposals should demonstrate a commitment to excellence and creativity in the implementation and management of the program.

2. Program planning: A detailed agenda and relevant work plan should explain how objectives will be achieved and should include a timetable for completion of major tasks. The substance of workshops, seminars and exchange activities should be described in detail. Responsibilities of in-country partners should be clearly described.

3. Ability to achieve program objectives: Objectives should be reasonable, feasible, and flexible. Proposals should clearly demonstrate how the institution will meet the program's objectives and plan.

4. Support of Diversity: Proposals should demonstrate substantive support of the Bureau's policy on diversity.

Achievable and relevant features should be cited in both program administration (selection of schools and participants, program venue and program evaluation) and program content. Applicants should refer to the Bureau's Diversity, Freedom and Democracy Guidelines in the Proposal Submission Instructions (PSI).

5. Institutional Capacity/Record/Ability: Applicants should demonstrate knowledge of each country's educational environment and display significant experience in developing school-based Internet programs. Proposals should exhibit an institutional record of successful exchange programs, including responsible fiscal management and full compliance with all reporting requirements as determined by the Bureau's Grants Division. Proposed personnel and institutional resources should be adequate and appropriate to achieve the program goals and objectives.

6. Project Evaluation: Proposals should include a plan to evaluate the activity's success, both as the activities unfold and at the end of the program. Applicants should provide baseline data and questionnaires for use in surveying schools/participants to facilitate the demonstration of results. Applicants may describe any experience conducting results-oriented evaluations.

7. Follow-on Activities: Proposals should provide a strategy for the continuation of the schools' Internet access and online linkages without the Bureau's financial support. Applicants should detail how exchange participants will share newly-acquired knowledge and skills with others.

8. Cost-effectiveness/cost sharing: The overhead and administrative components of the proposal, including salaries and honoraria, should be kept as low as possible. While lower “per school” figures will be more competitive, the Bureau expects all figures to be realistic. All other items should be necessary and appropriate. Proposals should maximize cost-sharing through other private sector support as well as institutional direct funding contributions.

Authority

Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authorities for this program are provided through the Fulbright-Hays Act and the FREEDOM Support Act (FSA).

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: February 3, 2003.
Patricia S. Harrison,
Assistant Secretary for Educational and Cultural Affairs, Department of State.

[FR Doc. 03-3683 Filed 2-13-03; 8:45 am]

BILLING CODE 4710-05-P